NUCLEAR REGULATORY COMMISSION

712th Meeting of the Advisory Committee on Reactor Safeguards (ACRS)

In accordance with the purposes of Sections 29 and 182b of the Atomic Energy Act (42 U.S.C. 2039, 2232(b)), the Advisory Committee on Reactor Safeguards (ACRS) will hold a meeting on December 15, 2023. The Committee will be conducting this meeting virtually via MS Teams. Interested members of the public are encouraged to participate remotely in any open sessions via MS Teams or via phone at 301-576-2978, passcode 859572303#. A more detailed agenda including the MS Teams link may be found at the ACRS public website at https://www.nrc.gov/reading-rm/doc-collections/acrs/agenda/index.html. If you would like the MS Teams link forwarded to you, please contact the Designated Federal Officer as follows: Quynh.Nguyen@nrc.gov, or Lawrence.Burkhart@nrc.gov. This is a special meeting being held due to the potential report preparation workload and in accordance with the ACRS bylaws.

Friday, December 15, 2023

8:30 a.m.-8:35 a.m.: Opening Remarks by the ACRS Chairman (Open)—The ACRS Chairman will make opening remarks regarding the conduct of the meeting.

8:35 a.m.-6:30 p.m.: Preparation of Reports for the topics of Technology Inclusive Content of Application Project/Advanced Reactor Content of Application Project (TICAP/ARCAP) Guidance and/or Transportation Framework for Micro-Reactors (Open)—The Committee will deliberate and prepare reports on the subject topics.

Procedures for the conduct of and participation in ACRS meetings were published in the Federal Register on June 13, 2019 (84 FR 27662). In accordance with those procedures, oral or written views may be presented by members of the public, including representatives of the nuclear industry. Persons desiring to make oral statements should notify Quynh Nguyen, Cognizant ACRS Staff and the Designated Federal Officer (DFO) (Telephone: 301-415-5844, Email: Quynh.Nguyen@nrc.gov), 5 days before the meeting, if possible, so that appropriate arrangements can be made to allow necessary time during the meeting for such statements. In view of the possibility that the schedule for ACRS meetings may be adjusted by the Chairman as necessary to facilitate the conduct of the meeting, persons planning to attend should check with the cognizant ACRS staff if such rescheduling would result in major inconvenience.

An electronic copy of each presentation should be emailed to the cognizant ACRS staff at least one day before the meeting.

In accordance with Subsection 10(d) of Public Law 92-463 and 5 U.S.C. 552b(c), certain portions of this meeting may be closed, as specifically noted above. Use of still, motion picture, and television cameras during the meeting may be limited to selected portions of the meeting as determined by the Chairman. Electronic recordings will be permitted only during the open portions of the meeting.

ACRS meeting agendas, meeting transcripts, and letter reports are available through the NRC Public Document Room (PDR) at pdr.resource@nrc.gov, or by calling the PDR at 1-800-397-4209, or from the Publicly Available Records System component of NRC's Agencywide Documents Access and Management System, which is accessible from the NRC website at http://www.nrc.gov/reading-rm/adams.html or http://www.nrc.gov/reading-rm/doc-collections/#ACRS/.

Russell E. Chazell,
Federal Advisory Committee Management Officer, Office of the Secretary.

[FR Doc. 2023-26034 Filed 11-24-23; 8:45 am]

BILLING CODE 7590-01-P